DEPARTMENT OF ENERGY

Federal Energy Regulatory Commission

Combined Notice of Filings #1

Take notice that the Commission received the following electric corporate filings:

Docket Numbers: EC22-34-000.

Applicants: Consolidated Water Power Company, BillerudKorsnäs AB.

Description: Joint Application for Authorization Under Section 203 of the Federal Power Act of Consolidated Water Power Company, et al.

Filed Date: 1/7/22.

Accession Number: 20220107-5179.

Comment Date: 5 p.m. ET 1/28/22.

Take notice that the Commission received the following exempt wholesale generator filings:

Docket Numbers: EG22-36-000.

Applicants: Lancaster Area Battery Storage, LLC.

Description: Lancaster Area Battery Storage, LLC. submits Self-Certification of Exempt Wholesale Generator Status.

Filed Date: 12/27/21.

Accession Number: 20211227-5299.

Comment Date: 5 p.m. ET 1/18/22.

Docket Numbers: EG22-37-000.

Applicants: CPV Maple Hill Solar, LLC.

Description: Notice of Self-Certification of Exempt Wholesale Generator Status of CPV Maple Hill Solar, LLC.

Filed Date: 1/7/22.

Accession Number: 20220107-5077.

Comment Date: 5 p.m. ET 1/28/22.

Take notice that the Commission received the following electric rate filings:

Docket Numbers: ER18-1106-002.

Applicants: Kestrel Acquisition, LLC.

Description: Response to December 7, 2021 Deficiency Letter of Kestrel Acquisition, LLC.

Filed Date: 1/6/22.

Accession Number: 20220106-5228.

Comment Date: 5 p.m. ET 1/27/22.

Docket Numbers: ER21-645-000.

Applicants: TransWest Express LLC.

Description: TransWest Express LLC submits Post-Open Solicitation Compliance Filing and Request for Expedited Action.

Filed Date: 12/3/21.

Accession Number: 20211203-5212.

Comment Date: 5 p.m. ET 1/21/22.

Docket Numbers: ER22-434-000.

Applicants: Altop Energy Trading LLC.

Description: Supplement to November 19, 2021 Altop Energy Trading LLC tariff filing.

Filed Date: 1/6/22.

Accession Number: 20220106-5178.

Comment Date: 5 p.m. ET 1/20/22.

Docket Numbers: ER22-434-000.

Applicants: Altop Energy Trading LLC.

Description: Supplement to November 18, 2021 Altop Energy Trading LLC tariff filing.

Filed Date: 1/4/22.

Accession Number: 20220104-5198.

Comment Date: 5 p.m. ET 1/18/22.

Docket Numbers: ER22-781-000.

Applicants: Southwest Power Pool, Inc.

Description: § 205(d) Rate Filing: 3878 States Edge Wind I GIA to be effective 12/9/2021.

Filed Date: 1/7/22.

Accession Number: 20220107-5024.

Comment Date: 5 p.m. ET 1/28/22.

Docket Numbers: ER22-782-000.

Applicants: Southwest Power Pool, Inc.

Description: § 205(d) Rate Filing: 3879 States Edge Wind I GIA to be effective 12/9/2021.

Filed Date: 1/7/22.

Accession Number: 20220107-5025.

Comment Date: 5 p.m. ET 1/28/22.

Docket Numbers: ER22-783-000.

Applicants: Southwest Power Pool, Inc.

Description: § 205(d) Rate Filing: 3880 States Edge Wind I GIA to be effective 12/9/2021.

Filed Date: 1/7/22.

Accession Number: 20220107-5026.

Comment Date: 5 p.m. ET 1/28/22.

Docket Numbers: ER22-784-000.

Applicants: CPV Maple Hill Solar, LLC.

Description: Baseline eTariff Filing: Application for Market-Based Rate Authority to be effective 3/9/2022.

Filed Date: 1/7/22.

Accession Number: 20220107-5067.

Comment Date: 5 p.m. ET 1/28/22.

Docket Numbers: ER22-785-000.

Applicants: PJM Interconnection, L.L.C.

Description: § 205(d) Rate Filing: Original Service Agreement No. 6278; Queue No. AD2-048 to be effective 12/8/2021.

Filed Date: 1/7/22.

Accession Number: 20220107-5073.

Comment Date: 5 p.m. ET 1/28/22.

Docket Numbers: ER22-786-000.

Applicants: PJM Interconnection, L.L.C.

Description: § 205(d) Rate Filing: ISA, SA No. 6280 and Cancellation of IISA, SA No. 6124; Queue No. AD1-101 to be effective 12/10/2021.

Filed Date: 1/7/22.

Accession Number: 20220107-5082.

Comment Date: 5 p.m. ET 1/28/22.

Docket Numbers: ER22-787-000.

Applicants: Midcontinent Independent System Operator, Inc.

Description: § 205(d) Rate Filing: 2022-01-07_SA 3408 Ameren Illinois-Glacier Sands Wind 2nd Rev GIA (J1055 J1454) to be effective 12/21/2021.

Filed Date: 1/7/22.

Accession Number: 20220107-5085.

Comment Date: 5 p.m. ET 1/28/22.

Docket Numbers: ER22-788-000.

Applicants: PJM Interconnection, L.L.C.

Description: § 205(d) Rate Filing: Revisions to Sch. 12-Appx A: Dec. 2021 RTEP, 30-Day Comment Period Requested to be effective 4/7/2022.

Filed Date: 1/7/22.

Accession Number: 20220107-5115.

Comment Date: 5 p.m. ET 1/28/22.

Docket Numbers: ER22-789-000.

Applicants: CPV Fairview, LLC.

Description: CPV Fairview, LLC submits Request for Limited One-Time Prospective Waiver with Expedited Consideration.

Filed Date: 1/3/22.

Accession Number: 20220103-5495.

Comment Date: 5 p.m. ET 1/24/22.

Docket Numbers: ER22-790-000.

Applicants: Pacific Gas and Electric Company.

Description: Tariff Amendment: Termination of Caballero CA Storage E&P Agreement (SA 2100 EP-28) to be effective 3/9/2022.

Filed Date: 1/7/22.

Accession Number: 20220107-5159.

Comment Date: 5 p.m. ET 1/28/22.

Docket Numbers: ER22-791-000.

Applicants: Pacific Gas and Electric Company.

Description: Tariff Amendment: Termination of Chalan CA Solar Storage E&P Agreement (SA 2100 EP-29) to be effective 3/9/2022.

Filed Date: 1/7/22.

Accession Number: 20220107-5160.

Comment Date: 5 p.m. ET 1/28/22.

Docket Numbers: ER22-792-000.

Applicants: Duke Energy Carolinas, LLC.

Description: § 205(d) Rate Filing: DEC-CEPCI NITSA SA No. 447 to be effective 2/1/2022.

Filed Date: 1/7/22.

Accession Number: 20220107-5198.

Comment Date: 5 p.m. ET 1/28/22.

Take notice that the Commission received the following qualifying facility filings:

Docket Numbers: QF22-358-000.

Applicants: DCO-Franklin, LLC.

Description: Form 556 of DCO-Franklin, LLC.

Filed Date: 1/6/22.

Accession Number: 20220106-5213.

Comment Date: 5 p.m. ET 1/27/22.

Docket Numbers: QF22-364-000.

Applicants: Bloom Energy Corporation.

Description: Form 556 of Bloom Energy Corporation [4095 US Highway 1].

Filed Date: 1/7/22.

Accession Number: 20220107-5080.

Comment Date: 5 p.m. ET 1/28/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2022.
Debbie-Anne A. Reese,
Deputy Secretary.

[FR Doc. 2022-00614 Filed 1-12-22; 8:45 am]

BILLING CODE 6717-01-P